DEPARTMENT OF HEALTH AND HUMAN SERVICES

National Institutes of Health

Government-Owned Inventions; Availability for Licensing

AGENCY: National Institutes of Health, Public Health Service, DHHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Combinatorial Therapy for Protein Signaling Diseases

Arpita Mehta (NCI), Lance Liotta (NCI), Emmanuel Petricoin (FDA)

U.S. Provisional Application No. 60/453,629 filed 10 Mar 2003 (DHHS Reference No. E-039-2003/0-US-01)

Licensing Contact: Michael Shmilovich; 301/435-5019; shmilovm@mail.nih.gov.

Available for licensing are methods for individualizing therapy based on information obtained concerning deranged signaling pathways that cause disease. The invention includes the use of protein microarrays to detect the deranged signaling pathways that are specific for the subject's disease. The invention covers the use of combination therapy targeting multiple points in the protein network. The invention is based, in part, on the unexpected discovery that treatment of interconnected nodes in a protein signaling pathway can provide a synergistic improvement in therapeutic efficacy at reduced toxicity. For example, a protein signaling network of a diseased cell (e.g., colon cancer) is analyzed and the information obtained from the analysis is used to select at least two drugs whose targets are interconnected within the protein signaling network.

Fluorescent Pteridine Nucleoside Analogs

Mary Hawkins, Wolfgang Pfleiderer, Frank Balis, Michael Davis (NCI)

U.S. Patent 5,525,711 issued 11 Jun 1996 (DHHS Reference No. E-181-1993/0-US-01);

U.S. Patent 5,612,468 issued 18 Mar 1997 (DHHS Reference No. E-181-1993/0-US-23);

U.S. Patent 6,451, 530 issued 17 Sep 2002 (DHHS Reference No. E-155-1996/0-US-03);

U.S. Patent Application No. 09/786,666 filed 07 Mar 2001, allowed (DHHS Reference No. E-035-1998/0-US-0).

Worldwide IP coverage.

Licensing Contact: Susan Carson; 301/435-5020; carsonsu@mail.nih.gov.

Pteridines are naturally occurring, highly fluorescent compounds (Quantum yields 0.88-0.40) that are structurally similar to purines and that were first isolated from butterfly wings in 1889. The pteridine nucleoside analogs developed by NCI scientist Hawkins and co-workers are structurally similar to guanosine (3-MI and 6-MI) or adenosine (6-MAP). These analogs are stable, can be formulated as phosphoramidites and are incorporated into oligonucleotides as a direct substitute for a purine base using automated DNA synthesis. The fluorescence properties of these probes are directly impacted by the chemistry of neighboring bases and reflect changes in tertiary structure due to interactions with proteins, RNA or DNA. Even subtle changes in base stacking or base pairing can be observed through changes in fluorescence intensity, lifetimes, energy transfer or anisotropy, making these pteridines ideally suited for the study of DNA/DNA and DNA/protein interactions.

Several applications have been further developed using this technology and one such application causes the pteridine probe to “bulge” out of the base stacking environment as it anneals to a target sequence which does not contain a base pairing partner for the pteridine. Prior to binding to the bulge-forming target strand the fluorescence of the probe is very quiet, only “lighting up” when bound to a specific sequence. This highly specific technique results in a dramatic increase in fluorescence intensity of up to 27 fold, is very rapid, does not require separation of oligonucleotides in a mixture and has been used in the development of a PCR product detection system. The specific nature of the “bulge hybridization” technique may be used to overcome some of the issues caused by non-specific probe binding in standard chip technology. (For a review see: Hawkins, M. (2003) Fluorescent Nucleoside Analogues as DNA Probes, in DNA Technology. J. R. Lakowicz. New York, Kluwer Academic/Plenum Publishers Vol 7 151-175.) More recent applications have shown that the stability and brightness of the guanosine analogy 3-MI are suitable for studies requiring probe detection at the single molecule level and studies using 6-MAP and 2-photon counting excitation demonstrate the adenosine analog's usefulness as a UV probe.

The pteridine nucleoside analogs provide a unique opportunity to use native-like, stable and highly fluorescent probes in the development of further refined, quantitative approaches to the study of DNA/DNA and DNA/protein interactions. The pteridine nucleoside patent portfolio is available for licensing and provides composition and methods of use claims for these versatile fluorophores.

Dated: December 22, 2003.
Steven M. Ferguson,
Director, Division of Technology Development and Transfer, Office of Technology Transfer, National Institutes of Health.

[FR Doc. 04-99 Filed 1-2-04; 8:45 am]

BILLING CODE 4140-01-P